DEPARTMENT OF STATE

[Public Notice: 9727]

Notice of Receipt of Application for an Amended Presidential Permit for the Presidio-Ojinaga International Bridge on the U.S.-Mexico Border at Presidio, Texas and Ojinaga, Chihuahua, Mexico

AGENCY: Department of State.

ACTION: Notice.

SUMMARY: The Department of State (“State Department”) hereby gives notice that, on September 7, 2016, it received an application from the Texas Department of Transportation (TXDOT) for an Amended Presidential Permit to construct a second bridge structure for southbound traffic on the U.S.-Mexico border at Presidio, Texas and Ojinaga, Chihuahua, Mexico. The State Department issued the original Presidential Permit to Presidio County on July 2, 1976, and an Amended Presidential Permit to TXDOT on May 4, 1982. The application may be found at: http://www.state.gov/documents/organization/261891.pdf.

The State Department's review of this application is based upon Executive Order 11423 of August 16, 1968, as amended. As provided in E.O. 11423, the State Department is circulating this application to relevant federal agencies for review and comment. Under E.O. 11423, the Department has the responsibility to determine, taking into account views from these agencies and other stakeholders, whether issuing an Amended Presidential Permit to TXDOT to construct a second bridge structure for southbound traffic would serve the national interest. That determination process involves consideration of many factors, including foreign policy; environmental, cultural, and economic impacts; compliance with applicable law and regulations; and other issues.

Interested members of the public are invited to submit written comments regarding this application. The public comment period will end 30 days from the publication of this notice. Comments are not private. They will be posted on the site http://www.regulations.gov. The comments will not be edited to remove identifying or contact information, and the State Department cautions against including any information that one does not want publicly disclosed. The State Department requests that any party soliciting or aggregating comments received from other persons for submission to the State Department inform those persons that the State Department will not edit their comments to remove identifying or contact information, and that they should not include any information in their comments that they do not want publicly disclosed.

DATES: Comments must be submitted no later than October 27, 2016 at 11:59 p.m.

ADDRESSES: For reasons of efficiency, the State Department encourages the electronic submission of comments through the federal government's eRulemaking Portal (http://www.regulations.gov), enter Docket No. DOS-2016-0063, and follow the prompts to submit a comment. The State Department also will accept comments submitted in hard copy by mail and postmarked no later than October 27, 2016. Please note that standard mail delivery to the State Department can be delayed due to security screening. To submit comments by mail, use the following address: Office of Mexican Affairs, Bureau of Western Hemisphere Affairs, Room 3924, Department of State, 2201 C St. NW., Washington, DC 20520.

FOR FURTHER INFORMATION CONTACT: Office of Mexican Affairs, Bureau of Western Hemisphere Affairs, via email at WHA-BorderAffairs@state.gov; by phone at 202-647-9894; or by mail at Office of Mexican Affairs, Bureau of Western Hemisphere Affairs, Room 3924, Department of State, 2201 C St. NW., Washington, DC 20520.

Dated: September 21, 2016.
Colleen A. Hoey,
Director, Office of Mexican Affairs, Department of State.

[FR Doc. 2016-23287 Filed 9-26-16; 8:45 am]

BILLING CODE 4710-29-P